DEPARTMENT OF ENERGY

Federal Energy Regulatory Commission

18 CFR Part 11

[Docket No. RM11-6-000]

Annual Update to Fee Schedule for the Use of Government Lands by Hydropower Licensees

AGENCY: Federal Energy Regulatory Commission (Commission or FERC), Department of Energy (DOE).

ACTION: Final rule.

SUMMARY: In accordance with the Commission's regulations, the Commission, by its designee, the Executive Director, issues this annual update to the fee schedule in the appendix to the part, which lists per-acre rental fees by county (or other geographic area) for use of Government lands by hydropower licensees.

DATES:

Effective date: This rule is effective February 12, 2025.

Applicability date: The updates to appendix A to part 11, with the fee schedule of per-acre rental fees by county (or other geographic area), are from October 1, 2024, through September 30, 2025 (fiscal year 2025).

FOR FURTHER INFORMATION CONTACT: Raven A. Rodriguez, Financial Management Division Office of the Executive Director, Federal Energy Regulatory Commission; 888 First Street NE, Washington, DC 20426; (202) 502-6276; Raven.Rodriguez@ferc.gov.

SUPPLEMENTARY INFORMATION:

Annual Update to Fee Schedule

Section 11.2 of the Commission's regulations provides a method for computing reasonable annual charges for recompensing the United States for the use, occupancy, and enjoyment of its lands by hydropower licensees.¹ Annual charges for the use of Government lands are payable in advance, and are based on an annual schedule of per-acre rental fees published in appendix A to part 11 of the Commission's regulations.² This document updates the fee schedule in appendix A to part 11 for fiscal year 2025 (October 1, 2024, through September 30, 2025).

¹ Annual Charges for the Use of Government Lands, Order No. 774, 78 FR 5256 (January 25, 2013), FERC Stats. & Regs. ¶ 31,341 (2013).

² 18 CFR part 11 (2018).

Effective Date

This final rule is effective February 12, 2025. The provisions of 5 U.S.C. 804, regarding congressional review of final rules, do not apply to this final rule because the rule concerns agency procedure and practice and will not substantially affect the rights or obligations of non-agency parties. This final rule merely updates the fee schedule published in the Code of Federal Regulations to reflect scheduled adjustments, as provided for in § 11.2 of the Commission's regulations.

List of Subjects in 18 CFR Part 11

Public lands.

By the Executive Director.
Issued: January 22, 2025.
Anton Porter,
Executive Director, Office of the Executive Director.

In consideration of the foregoing, the Commission amends part 11, chapter I, title 18, Code of Federal Regulations, as follows.

PART 11—ANNUAL CHARGES UNDER PART I OF THE FEDERAL POWER ACT

1. The authority citation for part 11 is revised to read as follows:

Authority: 16 U.S.C. 792-828c; 42 U.S.C. 7101-7352.

2. Appendix A to part 11 is revised to read as follows:

Appendix A to Part 11—Fee Schedule for FY 2025
State | County | Fee/acre/yr
Alabama | Autauga | $63.14
| Baldwin | 166.73
| Barbour | 63.94
| Bibb | 80.38
| Blount | 103.15
| Bullock | 61.34
| Butler | 70.27
| Calhoun | 121.59
| Chambers | 71.96
| Cherokee | 90.69
| Chilton | 101.06
| Choctaw | 58.70
| Clarke | 65.26
| Clay | 80.38
| Cleburne | 99.08
| Coffee | 75.40
| Colbert | 76.31
| Conecuh | 61.34
| Coosa | 65.63
| Covington | 76.86
| Crenshaw | 71.42
| Cullman | 113.88
| Dale | 86.17
| Dallas | 53.69
| DeKalb | 112.68
| Elmore | 85.79
| Escambia | 70.39
| Etowah | 109.85
| Fayette | 63.17
| Franklin | 70.19
| Geneva | 70.90
| Greene | 55.87
| Hale | 64.72
| Henry | 73.88
| Houston | 101.17
| Jackson | 87.11
| Jefferson | 126.37
| Lamar | 53.23
| Lauderdale | 103.83
| Lawrence | 108.70
| Lee | 118.84
| Limestone | 118.32
| Lowndes | 54.35
| Macon | 67.21
| Madison | 151.94
| Marengo | 57.47
| Marion | 66.98
| Marshall | 126.89
| Mobile | 135.68
| Monroe | 68.61
| Montgomery | 76.17
| Morgan | 126.08
| Perry | 63.23
| Pickens | 72.39
| Pike | 75.03
| Randolph | 90.40
| Russell | 72.76
| Shelby | 113.86
| St. Clair | 122.48
| Sumter | 53.61
| Talladega | 94.76
| Tallapoosa | 81.76
| Tuscaloosa | 96.33
| Walker | 86.45
| Washington | 58.02
| Wilcox | 52.06
| Winston | 79.18
Alaska | Aleutian Islands | 0.96
| Statewide | 51.33
Arizona | Apache | 4.75
| Cochise | 34.64
| Coconino | 3.66
| Gila | 6.72
| Graham | 11.20
| Greenlee | 26.94
| La Paz | 34.83
| Maricopa | 159.57
| Mohave | 14.50
| Navajo | 3.82
| Pima | 9.11
| Pinal | 47.75
| Santa Cruz | 34.45
| Yavapai | 28.53
| Yuma | 159.56
Arkansas | Arkansas | 67.25
| Ashley | 61.77
| Baxter | 57.41
| Benton | 138.26
| Boone | 56.26
| Bradley | 70.16
| Calhoun | 55.30
| Carroll | 58.69
| Chicot | 63.41
| Clark | 51.67
| Clay | 91.99
| Cleburne | 62.71
| Cleveland | 90.33
| Columbia | 49.58
| Conway | 54.23
| Craighead | 98.46
| Crawford | 65.48
| Crittenden | 82.19
| Cross | 71.93
| Dallas | 41.60
| Desha | 69.45
| Drew | 61.75
| Faulkner | 81.96
| Franklin | 54.73
| Fulton | 39.85
| Garland | 111.54
| Grant | 77.09
| Greene | 90.48
| Hempstead | 53.44
| Hot Spring | 59.40
| Howard | 60.94
| Independence | 49.07
| Izard | 43.69
| Jackson | 71.91
| Jefferson | 69.73
| Johnson | 59.59
| Lafayette | 54.36
| Lawrence | 76.54
| Lee | 67.72
| Lincoln | 65.78
| Little River | 51.52
| Logan | 53.34
| Lonoke | 78.61
| Madison | 66.87
| Marion | 52.04
| Miller | 55.02
| Mississippi | 73.34
| Monroe | 60.25
| Montgomery | 55.47
| Nevada | 50.50
| Newton | 51.99
| Ouachita | 47.62
| Perry | 58.87
| Phillips | 68.00
| Pike | 55.66
| Poinsett | 81.55
| Polk | 63.16
| Pope | 68.51
| Prairie | 62.32
| Pulaski | 83.86
| Randolph | 62.66
| Saline | 73.08
| Scott | 52.38
| Searcy | 40.19
| Sebastian | 71.35
| Sevier | 56.94
| Sharp | 45.50
| St. Francis | 66.34
| Stone | 46.17
| Union | 59.02
| Van Buren | 58.78
| Washington | 109.54
| White | 59.31
| Woodruff | 69.45
| Yell | 57.52
California | Alameda | 48.28
| Alpine | 31.07
| Amador | 30.26
| Butte | 81.81
| Calaveras | 24.14
| Colusa | 54.13
| Contra Costa | 47.03
| Del Norte | 56.49
| El Dorado | 67.43
| Fresno | 77.17
| Glenn | 60.57
| Humboldt | 20.99
| Imperial | 75.65
| Inyo | 4.21
| Kern | 50.14
| Kings | 73.47
| Lake | 44.53
| Lassen | 14.53
| Los Angeles | 126.23
| Madera | 74.45
| Marin | 39.82
| Mariposa | 14.02
| Mendocino | 26.01
| Merced | 88.90
| Modoc | 13.29
| Mono | 13.05
| Monterey | 50.06
| Napa | 299.97
| Nevada | 50.44
| Orange | 129.72
| Placer | 45.62
| Plumas | 15.61
| Riverside | 123.27
| Sacramento | 68.26
| San Benito | 24.25
| San Bernardino | 135.17
| San Diego | 157.68
| San Francisco | 528.28
| San Joaquin | 102.04
| San Luis Obispo | 51.27
| San Mateo | 66.37
| Santa Barbara | 70.53
| Santa Clara | 55.27
| Santa Cruz | 145.06
| Shasta | 19.83
| Sierra | 11.56
| Siskiyou | 20.83
| Solano | 62.15
| Sonoma | 150.73
| Stanislaus | 106.11
| Sutter | 64.71
| Tehama | 29.30
| Trinity | 13.05
| Tulare | 79.66
| Tuolumne | 25.24
| Ventura | 173.23
| Yolo | 65.92
| Yuba | 55.85
Colorado | Adams | 29.27
| Alamosa | 38.47
| Arapahoe | 41.01
| Archuleta | 56.32
| Baca | 14.23
| Bent | 12.52
| Boulder | 228.11
| Broomfield | 99.20
| Chaffee | 92.09
| Cheyenne | 15.21
| Clear Creek | 57.29
| Conejos | 30.61
| Costilla | 22.05
| Crowley | 9.24
| Custer | 35.26
| Delta | 87.34
| Denver | 1,156.40
| Dolores | 32.35
| Douglas | 122.43
| Eagle | 60.04
| El Paso | 25.53
| Elbert | 27.69
| Fremont | 42.39
| Garfield | 43.53
| Gilpin | 76.68
| Grand | 39.90
| Gunnison | 46.58
| Hinsdale | 33.41
| Huerfano | 17.46
| Jackson | 24.01
| Jefferson | 140.00
| Kiowa | 13.68
| Kit Carson | 22.12
| La Plata | 40.99
| Lake | 37.29
| Larimer | 84.14
| Las Animas | 10.92
| Lincoln | 12.77
| Logan | 21.56
| Mesa | 100.22
| Mineral | 62.44
| Moffat | 14.50
| Montezuma | 21.97
| Montrose | 56.13
| Morgan | 31.48
| Otero | 13.61
| Ouray | 55.42
| Park | 30.49
| Phillips | 30.70
| Pitkin | 138.22
| Prowers | 14.63
| Pueblo | 18.65
| Rio Blanco | 24.91
| Rio Grande | 56.67
| Routt | 57.00
| Saguache | 34.44
| San Juan | 29.18
| San Miguel | 27.04
| Sedgwick | 24.55
| Summit | 76.67
| Teller | 36.71
| Washington | 19.92
| Weld | 46.93
| Yuma | 29.63
Connecticut | Fairfield | 296.37
| Hartford | 442.77
| Litchfield | 310.87
| Middlesex | 409.41
| New Haven | 644.97
| New London | 314.85
| Tolland | 266.42
| Windham | 259.52
Delaware | Kent | 221.12
| New Castle | 265.10
| Sussex | 236.47
Florida | Alachua | 163.04
| Baker | 95.51
| Bay | 42.70
| Bradford | 99.44
| Brevard | 104.65
| Broward | 689.87
| Calhoun | 44.84
| Charlotte | 149.38
| Citrus | 165.06
| Clay | 119.20
| Collier | 98.86
| Columbia | 90.78
| Dade | 779.59
| DeSoto | 104.25
| Dixie | 77.48
| Duval | 156.61
| Escambia | 129.19
| Flagler | 115.85
| Franklin | 122.84
| Gadsden | 88.60
| Gilchrist | 110.77
| Glades | 89.68
| Gulf | 29.87
| Hamilton | 80.46
| Hardee | 111.10
| Hendry | 102.00
| Hernando | 218.33
| Highlands | 81.31
| Hillsborough | 243.10
| Holmes | 69.40
| Indian River | 119.59
| Jackson | 76.90
| Jefferson | 72.19
| Lafayette | 62.95
| Lake | 165.12
| Lee | 254.09
| Leon | 88.81
| Levy | 95.92
| Liberty | 81.52
| Madison | 73.42
| Manatee | 162.04
| Marion | 231.36
| Martin | 91.51
| Monroe | 122.84
| Nassau | 77.94
| Okaloosa | 99.15
| Okeechobee | 87.91
| Orange | 175.53
| Osceola | 80.77
| Palm Beach | 174.43
| Pasco | 149.07
| Pinellas | 1,196.22
| Polk | 126.23
| Putnam | 82.79
| Santa Rosa | 111.62
| Sarasota | 191.41
| Seminole | 172.18
| St. Johns | 177.09
| St. Lucie | 124.40
| Sumter | 125.42
| Suwannee | 91.97
| Taylor | 75.98
| Union | 77.48
| Volusia | 214.60
| Wakulla | 71.19
| Walton | 78.50
| Washington | 79.52
Georgia | Appling | 86.84
| Atkinson | 77.62
| Bacon | 110.02
| Baker | 59.39
| Baldwin | 57.87
| Banks | 143.83
| Barrow | 175.27
| Bartow | 161.05
| Ben Hill | 66.00
| Berrien | 83.61
| Bibb | 107.08
| Bleckley | 68.96
| Brantley | 78.02
| Brooks | 93.45
| Bryan | 82.25
| Bulloch | 76.55
| Burke | 75.99
| Butts | 104.17
| Calhoun | 80.56
| Camden | 76.58
| Candler | 84.47
| Carroll | 127.93
| Catoosa | 147.09
| Charlton | 64.87
| Chatham | 135.73
| Chattahoochee | 79.07
| Chattooga | 94.68
| Cherokee | 231.88
| Clarke | 206.75
| Clay | 63.27
| Clayton | 223.33
| Clinch | 106.46
| Cobb | 305.39
| Coffee | 80.62
| Colquitt | 88.42
| Columbia | 119.00
| Cook | 81.20
| Coweta | 128.97
| Crawford | 107.69
| Crisp | 81.93
| Dade | 106.41
| Dawson | 186.65
| Decatur | 87.14
| DeKalb | 1,254.51
| Dodge | 69.50
| Dooly | 78.10
| Dougherty | 103.42
| Douglas | 178.96
| Early | 68.67
| Echols | 74.60
| Effingham | 86.87
| Elbert | 104.91
| Emanuel | 55.89
| Evans | 72.14
| Fannin | 157.76
| Fayette | 145.44
| Floyd | 130.07
| Forsyth | 210.60
| Franklin | 153.64
| Fulton | 509.55
| Gilmer | 204.67
| Glascock | 42.55
| Glynn | 411.93
| Gordon | 174.95
| Grady | 100.50
| Greene | 95.85
| Gwinnett | 249.63
| Habersham | 191.38
| Hall | 249.44
| Hancock | 55.92
| Haralson | 126.97
| Harris | 115.53
| Hart | 150.27
| Heard | 96.52
| Henry | 199.99
| Houston | 107.48
| Irwin | 86.84
| Jackson | 170.27
| Jasper | 93.05
| Jeff Davis | 66.96
| Jefferson | 69.23
| Jenkins | 70.03
| Johnson | 55.95
| Jones | 75.00
| Lamar | 93.58
| Lanier | 80.99
| Laurens | 56.03
| Lee | 90.45
| Liberty | 141.37
| Lincoln | 83.53
| Long | 89.84
| Lowndes | 145.70
| Lumpkin | 158.37
| Macon | 85.99
| Madison | 151.40
| Marion | 63.48
| McDuffie | 80.03
| McIntosh | 63.40
| Meriwether | 87.19
| Miller | 86.66
| Mitchell | 98.95
| Monroe | 87.65
| Montgomery | 69.07
| Morgan | 124.91
| Murray | 135.47
| Muscogee | 133.73
| Newton | 119.62
| Oconee | 193.39
| Oglethorpe | 116.35
| Paulding | 154.52
| Peach | 154.12
| Pickens | 227.98
| Pierce | 76.90
| Pike | 130.90
| Polk | 96.65
| Pulaski | 71.40
| Putnam | 112.43
| Quitman | 61.67
| Rabun | 220.25
| Randolph | 75.70
| Richmond | 98.37
| Rockdale | 188.71
| Schley | 76.13
| Screven | 58.81
| Seminole | 83.96
| Spalding | 136.88
| Stephens | 154.34
| Stewart | 55.30
| Sumter | 76.42
| Talbot | 73.11
| Taliaferro | 87.99
| Tattnall | 103.55
| Taylor | 55.57
| Telfair | 59.07
| Terrell | 74.92
| Thomas | 97.30
| Tift | 84.84
| Toombs | 74.31
| Towns | 146.93
| Treutlen | 50.33
| Troup | 86.76
| Turner | 82.43
| Twiggs | 64.61
| Union | 154.26
| Upson | 105.69
| Walker | 113.31
| Walton | 151.40
| Ware | 68.56
| Warren | 79.71
| Washington | 56.29
| Wayne | 55.60
| Webster | 65.27
| Wheeler | 48.89
| White | 217.21
| Whitfield | 165.32
| Wilcox | 69.71
| Wilkes | 92.14
| Wilkinson | 54.80
| Worth | 80.27
Hawaii | Hawaii | 159.71
| Honolulu | 571.09
| Kauai | 206.89
| Maui | 264.10
Idaho | Ada | 131.11
| Adams | 21.37
| Bannock | 26.92
| Bear Lake | 19.84
| Benewah | 26.69
| Bingham | 35.07
| Blaine | 34.88
| Boise | 19.75
| Bonner | 69.42
| Bonneville | 40.18
| Boundary | 65.95
| Butte | 28.30
| Camas | 18.49
| Canyon | 113.59
| Caribou | 25.58
| Cassia | 43.97
| Clark | 24.19
| Clearwater | 34.04
| Custer | 37.58
| Elmore | 34.35
| Franklin | 32.05
| Fremont | 38.14
| Gem | 38.80
| Gooding | 82.93
| Idaho | 22.66
| Jefferson | 48.55
| Jerome | 83.25
| Kootenai | 76.16
| Latah | 35.04
| Lemhi | 34.82
| Lewis | 27.07
| Lincoln | 50.33
| Madison | 57.37
| Minidoka | 62.57
| Nez Perce | 28.66
| Oneida | 22.86
| Owyhee | 22.44
| Payette | 48.32
| Power | 34.01
| Shoshone | 92.57
| Teton | 54.51
| Twin Falls | 61.19
| Valley | 35.76
| Washington | 18.66
Illinois | Adams | 189.26
| Alexander | 99.58
| Bond | 199.97
| Boone | 227.23
| Brown | 162.85
| Bureau | 239.09
| Calhoun | 121.86
| Carroll | 233.86
| Cass | 186.12
| Champaign | 271.04
| Christian | 251.28
| Clark | 166.05
| Clay | 148.97
| Clinton | 201.54
| Coles | 229.09
| Cook | 600.28
| Crawford | 152.84
| Cumberland | 184.55
| De Witt | 243.98
| DeKalb | 274.03
| Douglas | 263.88
| DuPage | 488.92
| Edgar | 216.00
| Edwards | 156.27
| Effingham | 192.08
| Fayette | 157.03
| Ford | 226.00
| Franklin | 129.74
| Fulton | 180.16
| Gallatin | 154.38
| Greene | 179.90
| Grundy | 257.97
| Hamilton | 139.92
| Hancock | 206.28
| Hardin | 95.45
| Henderson | 202.50
| Henry | 229.87
| Iroquois | 213.76
| Jackson | 156.68
| Jasper | 163.90
| Jefferson | 120.96
| Jersey | 184.14
| Jo Daviess | 177.74
| Johnson | 107.66
| Kane | 307.14
| Kankakee | 227.55
| Kendall | 263.53
| Knox | 212.91
| La Salle | 265.45
| Lake | 353.42
| Lawrence | 164.36
| Lee | 252.16
| Livingston | 239.41
| Logan | 243.78
| Macon | 269.09
| Macoupin | 209.31
| Madison | 253.26
| Marion | 142.11
| Marshall | 234.91
| Mason | 203.14
| Massac | 112.61
| McDonough | 213.35
| McHenry | 277.55
| McLean | 286.37
| Menard | 227.11
| Mercer | 190.57
| Monroe | 193.71
| Montgomery | 211.66
| Morgan | 239.91
| Moultrie | 254.16
| Ogle | 250.15
| Peoria | 229.58
| Perry | 139.11
| Piatt | 269.38
| Pike | 172.10
| Pope | 101.55
| Pulaski | 119.36
| Putnam | 243.54
| Randolph | 157.76
| Richland | 153.60
| Rock Island | 202.61
| Saline | 140.33
| Sangamon | 259.81
| Schuyler | 159.53
| Scott | 189.03
| Shelby | 205.00
| St. Clair | 215.76
| Stark | 241.86
| Stephenson | 245.06
| Tazewell | 240.64
| Union | 123.58
| Vermilion | 238.63
| Wabash | 160.96
| Warren | 235.40
| Washington | 186.82
| Wayne | 138.59
| White | 144.96
| Whiteside | 229.58
| Will | 258.56
| Williamson | 114.99
| Winnebago | 207.62
| Woodford | 261.00
Indiana | Adams | 239.89
| Allen | 230.50
| Bartholomew | 193.91
| Benton | 224.23
| Blackford | 191.50
| Boone | 220.96
| Brown | 127.28
| Carroll | 218.58
| Cass | 181.00
| Clark | 159.90
| Clay | 147.87
| Clinton | 207.85
| Crawford | 89.71
| Daviess | 220.93
| Dearborn | 140.94
| Decatur | 205.36
| DeKalb | 160.83
| Delaware | 192.31
| Dubois | 158.16
| Elkhart | 324.09
| Fayette | 163.99
| Floyd | 158.19
| Fountain | 195.18
| Franklin | 164.39
| Fulton | 183.01
| Gibson | 187.99
| Grant | 204.66
| Greene | 143.57
| Hamilton | 253.69
| Hancock | 218.70
| Harrison | 132.64
| Hendricks | 221.45
| Henry | 173.58
| Howard | 225.13
| Huntington | 198.72
| Jackson | 153.52
| Jasper | 187.18
| Jay | 219.91
| Jefferson | 120.06
| Jennings | 132.33
| Johnson | 195.56
| Knox | 180.45
| Kosciusko | 206.43
| LaGrange | 268.16
| Lake | 201.97
| LaPorte | 213.25
| Lawrence | 107.74
| Madison | 235.08
| Marion | 306.28
| Marshall | 181.47
| Martin | 112.67
| Miami | 195.70
| Monroe | 190.46
| Montgomery | 202.49
| Morgan | 182.34
| Newton | 195.21
| Noble | 185.38
| Ohio | 126.64
| Orange | 130.15
| Owen | 131.72
| Parke | 169.32
| Perry | 116.35
| Pike | 142.97
| Porter | 196.17
| Posey | 176.08
| Pulaski | 178.31
| Putnam | 186.57
| Randolph | 186.05
| Ripley | 149.69
| Rush | 210.35
| Scott | 155.64
| Shelby | 201.36
| Spencer | 133.63
| St. Joseph | 234.47
| Starke | 145.08
| Steuben | 160.54
| Sullivan | 144.30
| Switzerland | 118.81
| Tippecanoe | 261.72
| Tipton | 236.79
| Union | 183.82
| Vanderburgh | 229.22
| Vermillion | 164.51
| Vigo | 157.29
| Wabash | 182.37
| Warren | 196.75
| Warrick | 157.40
| Washington | 130.50
| Wayne | 159.23
| Wells | 218.72
| White | 226.58
| Whitley | 183.90
Iowa | Adair | 152.32
| Adams | 145.25
| Allamakee | 155.67
| Appanoose | 118.39
| Audubon | 199.97
| Benton | 215.15
| Black Hawk | 254.06
| Boone | 232.01
| Bremer | 232.74
| Buchanan | 229.62
| Buena Vista | 234.31
| Butler | 208.80
| Calhoun | 231.31
| Carroll | 233.87
| Cass | 171.69
| Cedar | 228.86
| Cerro Gordo | 213.81
| Cherokee | 230.49
| Chickasaw | 217.36
| Clarke | 124.39
| Clay | 232.56
| Clayton | 161.50
| Clinton | 219.72
| Crawford | 197.29
| Dallas | 237.92
| Davis | 114.05
| Decatur | 111.99
| Delaware | 226.39
| Des Moines | 201.25
| Dickinson | 216.66
| Dubuque | 251.44
| Emmet | 209.18
| Fayette | 209.00
| Floyd | 214.33
| Franklin | 227.58
| Fremont | 174.81
| Greene | 241.65
| Grundy | 264.63
| Guthrie | 183.52
| Hamilton | 236.35
| Hancock | 221.96
| Hardin | 227.55
| Harrison | 179.44
| Henry | 182.53
| Howard | 217.13
| Humboldt | 235.56
| Ida | 213.98
| Iowa | 186.84
| Jackson | 173.96
| Jasper | 189.66
| Jefferson | 161.29
| Johnson | 234.08
| Jones | 202.77
| Keokuk | 170.00
| Kossuth | 229.85
| Lee | 150.46
| Linn | 242.55
| Louisa | 193.13
| Lucas | 99.40
| Lyon | 290.90
| Madison | 165.08
| Mahaska | 180.37
| Marion | 168.08
| Marshall | 221.35
| Mills | 174.52
| Mitchell | 229.07
| Monona | 167.82
| Monroe | 122.50
| Montgomery | 165.43
| Muscatine | 195.72
| O'Brien | 283.30
| Osceola | 255.19
| Page | 156.40
| Palo Alto | 233.41
| Plymouth | 249.34
| Pocahontas | 234.86
| Polk | 257.49
| Pottawattamie | 197.58
| Poweshiek | 195.37
| Ringgold | 112.25
| Sac | 231.34
| Scott | 279.25
| Shelby | 199.59
| Sioux | 303.04
| Story | 275.73
| Tama | 211.33
| Taylor | 140.15
| Union | 129.84
| Van Buren | 136.13
| Wapello | 142.01
| Warren | 164.15
| Washington | 200.64
| Wayne | 123.84
| Webster | 231.48
| Winnebago | 203.55
| Winneshiek | 186.43
| Woodbury | 214.80
| Worth | 202.59
| Wright | 220.56
Kansas | Allen | 58.50
| Anderson | 58.76
| Atchison | 87.65
| Barber | 41.40
| Barton | 45.27
| Bourbon | 57.90
| Brown | 101.12
| Butler | 65.39
| Chase | 55.10
| Chautauqua | 47.03
| Cherokee | 63.75
| Cheyenne | 42.59
| Clark | 34.23
| Clay | 78.20
| Cloud | 66.37
| Coffey | 52.62
| Comanche | 33.42
| Cowley | 53.31
| Crawford | 58.07
| Decatur | 42.04
| Dickinson | 61.70
| Doniphan | 98.93
| Douglas | 117.41
| Edwards | 53.14
| Elk | 44.55
| Ellis | 38.90
| Ellsworth | 46.36
| Finney | 45.12
| Ford | 44.61
| Franklin | 69.29
| Geary | 66.35
| Gove | 37.51
| Graham | 37.05
| Grant | 45.44
| Gray | 46.02
| Greeley | 40.83
| Greenwood | 48.07
| Hamilton | 30.74
| Harper | 47.34
| Harvey | 91.32
| Haskell | 44.03
| Hodgeman | 33.91
| Jackson | 77.19
| Jefferson | 83.73
| Jewell | 59.40
| Johnson | 108.79
| Kearny | 41.58
| Kingman | 46.68
| Kiowa | 45.30
| Labette | 61.16
| Lane | 36.73
| Leavenworth | 98.64
| Lincoln | 49.80
| Linn | 73.64
| Logan | 38.81
| Lyon | 57.32
| Marion | 58.88
| Marshall | 89.21
| McPherson | 78.97
| Meade | 42.56
| Miami | 89.24
| Mitchell | 53.86
| Montgomery | 57.96
| Morris | 46.77
| Morton | 29.53
| Nemaha | 86.67
| Neosho | 56.60
| Ness | 31.26
| Norton | 39.24
| Osage | 57.44
| Osborne | 40.66
| Ottawa | 57.98
| Pawnee | 47.81
| Phillips | 41.58
| Pottawatomie | 70.96
| Pratt | 59.25
| Rawlins | 44.46
| Reno | 61.67
| Republic | 74.56
| Rice | 58.70
| Riley | 87.13
| Rooks | 36.07
| Rush | 37.45
| Russell | 38.61
| Saline | 68.36
| Scott | 43.68
| Sedgwick | 99.88
| Seward | 40.66
| Shawnee | 86.30
| Sheridan | 45.10
| Sherman | 50.78
| Smith | 55.04
| Stafford | 51.99
| Stanton | 30.68
| Stevens | 39.99
| Sumner | 53.00
| Thomas | 50.37
| Trego | 32.90
| Wabaunsee | 55.56
| Wallace | 38.98
| Washington | 69.95
| Wichita | 40.40
| Wilson | 56.14
| Woodson | 47.92
| Wyandotte | 194.39
Kentucky | Adair | 87.29
| Allen | 100.46
| Anderson | 107.74
| Ballard | 104.87
| Barren | 104.52
| Bath | 68.48
| Bell | 57.75
| Boone | 174.23
| Bourbon | 164.94
| Boyd | 69.79
| Boyle | 107.95
| Bracken | 72.49
| Breathitt | 45.53
| Breckinridge | 89.58
| Bullitt | 149.76
| Butler | 76.84
| Caldwell | 96.89
| Calloway | 119.61
| Campbell | 146.83
| Carlisle | 110.21
| Carroll | 98.46
| Carter | 56.09
| Casey | 67.99
| Christian | 139.78
| Clark | 128.58
| Clay | 52.64
| Clinton | 80.90
| Crittenden | 79.71
| Cumberland | 59.57
| Daviess | 144.69
| Edmonson | 92.22
| Elliott | 46.98
| Estill | 69.76
| Fayette | 424.22
| Fleming | 76.70
| Floyd | 89.61
| Franklin | 115.12
| Fulton | 106.61
| Gallatin | 82.56
| Garrard | 84.65
| Grant | 96.02
| Graves | 111.00
| Grayson | 85.78
| Green | 75.30
| Greenup | 71.70
| Hancock | 86.39
| Hardin | 133.31
| Harlan | 45.38
| Harrison | 89.96
| Hart | 89.32
| Henderson | 147.88
| Henry | 112.04
| Hickman | 116.48
| Hopkins | 97.85
| Jackson | 68.37
| Jefferson | 356.81
| Jessamine | 192.68
| Johnson | 87.08
| Kenton | 162.42
| Knott | 37.11
| Knox | 69.47
| Larue | 102.99
| Laurel | 97.01
| Lawrence | 46.40
| Lee | 59.40
| Leslie | 110.85
| Letcher | 87.05
| Lewis | 60.82
| Lincoln | 94.19
| Livingston | 81.60
| Logan | 140.13
| Lyon | 90.57
| Madison | 100.64
| Magoffin | 60.07
| Marion | 101.04
| Marshall | 110.15
| Martin | 100.14
| Mason | 85.81
| McCracken | 129.31
| McCreary | 71.24
| McLean | 129.60
| Meade | 125.59
| Menifee | 56.09
| Mercer | 113.90
| Metcalfe | 77.68
| Monroe | 82.62
| Montgomery | 101.71
| Morgan | 56.53
| Muhlenberg | 86.94
| Nelson | 117.84
| Nicholas | 67.38
| Ohio | 99.18
| Oldham | 231.10
| Owen | 82.15
| Owsley | 38.94
| Pendleton | 82.41
| Perry | 33.25
| Pike | 41.03
| Powell | 67.73
| Pulaski | 93.96
| Robertson | 63.46
| Rockcastle | 63.23
| Rowan | 80.38
| Russell | 89.75
| Scott | 162.36
| Shelby | 168.57
| Simpson | 164.68
| Spencer | 131.80
| Taylor | 88.16
| Todd | 150.46
| Trigg | 119.27
| Trimble | 94.16
| Union | 146.22
| Warren | 154.78
| Washington | 93.21
| Wayne | 77.36
| Webster | 106.87
| Whitley | 73.47
| Wolfe | 58.50
| Woodford | 235.37
Louisiana | Acadia | 73.40
| Allen | 68.19
| Ascension | 96.36
| Assumption | 78.24
| Avoyelles | 67.61
| Beauregard | 80.76
| Bienville | 67.69
| Bossier | 82.97
| Caddo | 79.28
| Calcasieu | 92.48
| Caldwell | 66.63
| Cameron | 65.86
| Catahoula | 71.81
| Claiborne | 63.49
| Concordia | 74.47
| De Soto | 78.82
| East Baton Rouge | 219.28
| East Carroll | 98.68
| East Feliciana | 74.39
| Evangeline | 64.87
| Franklin | 75.37
| Grant | 72.77
| Iberia | 76.22
| Iberville | 47.73
| Jackson | 106.38
| Jefferson | 62.03
| Jefferson Davis | 59.18
| La Salle | 84.64
| Lafayette | 148.32
| Lafourche | 77.04
| Lincoln | 85.31
| Livingston | 142.21
| Madison | 73.06
| Morehouse | 84.51
| Natchitoches | 62.06
| Orleans | 275.20
| Ouachita | 113.24
| Plaquemines | 37.50
| Pointe Coupee | 82.15
| Rapides | 99.58
| Red River | 59.48
| Richland | 75.24
| Sabine | 100.43
| St. Bernard | 46.56
| St. Charles | 92.78
| St. Helena | 110.53
| St. James | 81.38
| St. John the Baptist | 93.02
| St. Landry | 77.58
| St. Martin | 85.18
| St. Mary | 87.65
| St. Tammany | 285.19
| Tangipahoa | 134.50
| Tensas | 74.49
| Terrebonne | 109.44
| Union | 80.90
| Vermilion | 76.46
| Vernon | 98.41
| Washington | 95.99
| Webster | 78.11
| West Baton Rouge | 74.94
| West Carroll | 87.59
| West Feliciana | 78.00
| Winn | 74.52
Maine | Androscoggin | 96.02
| Aroostook | 47.41
| Cumberland | 185.99
| Franklin | 67.64
| Hancock | 76.08
| Kennebec | 82.32
| Knox | 128.67
| Lincoln | 126.46
| Oxford | 79.35
| Penobscot | 67.15
| Piscataquis | 38.34
| Sagadahoc | 112.57
| Somerset | 40.19
| Waldo | 81.64
| Washington | 41.77
| York | 139.42
Maryland | Allegany | 159.62
| Anne Arundel | 294.36
| Baltimore | 423.18
| Calvert | 292.79
| Caroline | 203.41
| Carroll | 233.44
| Cecil | 228.84
| Charles | 269.98
| Dorchester | 162.02
| Frederick | 271.80
| Garrett | 130.19
| Harford | 311.31
| Howard | 261.36
| Kent | 188.65
| Montgomery | 234.44
| Prince George's | 232.13
| Queen Anne's | 209.49
| Somerset | 163.45
| St. Mary's | 283.99
| Talbot | 200.61
| Washington | 229.99
| Wicomico | 200.78
| Worcester | 151.29
Massachusetts | Barnstable Berkshire | 783.29 195.96
| Bristol | 466.21
| Dukes | 292.99
| Essex | 447.34
| Franklin | 164.55
| Hampden | 265.15
| Hampshire | 196.42
| Middlesex | 408.73
| Nantucket | 1,002.97
| Norfolk | 439.65
| Plymouth | 245.46
| Suffolk | 5,893.59
| Worcester | 315.24
Michigan | Alcona | 73.39
| Alger | 57.80
| Allegan | 169.47
| Alpena | 72.11
| Antrim | 119.09
| Arenac | 95.06
| Baraga | 62.03
| Barry | 136.04
| Bay | 143.15
| Benzie | 112.23
| Berrien | 182.62
| Branch | 120.03
| Calhoun | 150.43
| Cass | 130.96
| Charlevoix | 106.82
| Cheboygan | 72.59
| Chippewa | 61.32
| Clare | 85.32
| Clinton | 160.23
| Crawford | 99.23
| Delta | 50.58
| Dickinson | 77.27
| Eaton | 118.33
| Emmet | 106.74
| Genesee | 149.10
| Gladwin | 110.76
| Gogebic | 73.70
| Grand Traverse | 180.27
| Gratiot | 153.91
| Hillsdale | 122.09
| Houghton | 66.70
| Huron | 171.37
| Ingham | 150.88
| Ionia | 140.40
| Iosco | 89.34
| Iron | 55.99
| Isabella | 116.14
| Jackson | 141.28
| Kalamazoo | 199.90
| Kalkaska | 75.20
| Kent | 209.11
| Keweenaw | 95.63
| Lake | 69.76
| Lapeer | 130.54
| Leelanau | 207.44
| Lenawee | 148.08
| Livingston | 161.54
| Luce | 71.43
| Mackinac | 56.58
| Macomb | 144.37
| Manistee | 81.72
| Marquette | 62.51
| Mason | 88.15
| Mecosta | 99.31
| Menominee | 60.21
| Midland | 157.03
| Missaukee | 103.65
| Monroe | 174.43
| Montcalm | 113.08
| Montmorency | 60.81
| Muskegon | 182.05
| Newaygo | 110.19
| Oakland | 329.34
| Oceana | 117.84
| Ogemaw | 79.25
| Ontonagon | 45.25
| Osceola | 85.09
| Oscoda | 77.67
| Otsego | 78.77
| Ottawa | 234.36
| Presque Isle | 66.45
| Roscommon | 69.45
| Saginaw | 164.48
| Sanilac | 139.69
| Schoolcraft | 51.57
| Shiawassee | 127.82
| St. Clair | 148.87
| St. Joseph | 161.99
| Tuscola | 147.82
| Van Buren | 164.03
| Washtenaw | 221.66
| Wayne | 327.58
| Wexford | 95.43
Minnesota | Aitkin | 61.19
| Anoka | 220.23
| Becker | 84.32
| Beltrami | 57.04
| Benton | 127.38
| Big Stone | 126.16
| Blue Earth | 208.97
| Brown | 190.75
| Carlton | 62.53
| Carver | 195.62
| Cass | 72.62
| Chippewa | 171.02
| Chisago | 132.74
| Clay | 114.55
| Clearwater | 58.78
| Cook | 171.97
| Cottonwood | 183.40
| Crow Wing | 77.99
| Dakota | 200.26
| Dodge | 199.97
| Douglas | 114.49
| Faribault | 197.27
| Fillmore | 161.15
| Freeborn | 174.96
| Goodhue | 180.01
| Grant | 127.75
| Hennepin | 390.66
| Houston | 124.48
| Hubbard | 76.77
| Isanti | 112.78
| Itasca | 82.46
| Jackson | 186.80
| Kanabec | 76.95
| Kandiyohi | 151.40
| Kittson | 65.26
| Koochiching | 41.87
| Lac qui Parle | 129.93
| Lake | 105.30
| Lake of the Woods | 49.24
| Le Sueur | 179.17
| Lincoln | 140.32
| Lyon | 169.80
| Mahnomen | 85.74
| Marshall | 71.78
| Martin | 194.75
| McLeod | 166.08
| Meeker | 150.59
| Mille Lacs | 90.01
| Morrison | 96.04
| Mower | 197.68
| Murray | 178.91
| Nicollet | 203.16
| Nobles | 200.52
| Norman | 95.78
| Olmsted | 193.15
| Otter Tail | 86.15
| Pennington | 55.94
| Pine | 68.59
| Pipestone | 169.25
| Polk | 95.17
| Pope | 120.24
| Ramsey | 773.14
| Red Lake | 68.77
| Redwood | 181.03
| Renville | 190.34
| Rice | 198.96
| Rock | 221.41
| Roseau | 50.57
| Scott | 220.23
| Sherburne | 149.57
| Sibley | 195.74
| St. Louis | 57.80
| Stearns | 149.40
| Steele | 179.92
| Stevens | 147.31
| Swift | 146.32
| Todd | 79.65
| Traverse | 144.47
| Wabasha | 160.13
| Wadena | 63.83
| Waseca | 192.11
| Washington | 252.29
| Watonwan | 205.92
| Wilkin | 112.35
| Winona | 166.92
| Wright | 186.89
| Yellow Medicine | 156.91
Mississippi | Adams | 80.24
| Alcorn | 57.96
| Amite | 86.82
| Attala | 50.21
| Benton | 52.39
| Bolivar | 82.28
| Calhoun | 48.31
| Carroll | 58.15
| Chickasaw | 54.48
| Choctaw | 50.08
| Claiborne | 73.66
| Clarke | 60.85
| Clay | 51.05
| Coahoma | 89.95
| Copiah | 69.71
| Covington | 98.06
| DeSoto | 81.84
| Forrest | 115.44
| Franklin | 86.33
| George | 101.48
| Greene | 68.76
| Grenada | 59.84
| Hancock | 105.02
| Harrison | 227.77
| Hinds | 89.54
| Holmes | 65.96
| Humphreys | 88.94
| Issaquena | 74.45
| Itawamba | 46.57
| Jackson | 136.33
| Jasper | 76.30
| Jefferson | 68.54
| Jefferson Davis | 69.90
| Jones | 102.98
| Kemper | 55.00
| Lafayette | 74.53
| Lamar | 96.51
| Lauderdale | 55.90
| Lawrence | 87.34
| Leake | 82.33
| Lee | 49.83
| Leflore | 78.93
| Lincoln | 83.53
| Lowndes | 68.82
| Madison | 71.48
| Marion | 78.36
| Marshall | 65.36
| Monroe | 59.79
| Montgomery | 54.37
| Neshoba | 72.46
| Newton | 64.49
| Noxubee | 68.90
| Oktibbeha | 76.05
| Panola | 66.99
| Pearl River | 96.42
| Perry | 87.31
| Pike | 101.35
| Pontotoc | 53.53
| Prentiss | 55.65
| Quitman | 77.82
| Rankin | 89.76
| Scott | 69.25
| Sharkey | 90.03
| Simpson | 75.02
| Smith | 78.15
| Stone | 89.98
| Sunflower | 86.60
| Tallahatchie | 76.70
| Tate | 76.84
| Tippah | 56.36
| Tishomingo | 51.41
| Tunica | 80.38
| Union | 54.37
| Walthall | 84.43
| Warren | 66.01
| Washington | 100.86
| Wayne | 84.21
| Webster | 49.86
| Wilkinson | 65.31
| Winston | 61.93
| Yalobusha | 50.70
| Yazoo | 75.86
Missouri | Adair | 79.54
| Andrew | 109.48
| Atchison | 139.68
| Audrain | 121.25
| Barry | 97.69
| Barton | 78.43
| Bates | 88.03
| Benton | 77.97
| Bollinger | 71.42
| Boone | 161.07
| Buchanan | 115.46
| Butler | 133.75
| Caldwell | 90.31
| Callaway | 112.81
| Camden | 62.90
| Cape Girardeau | 123.73
| Carroll | 101.99
| Carter | 54.38
| Cass | 107.09
| Cedar | 70.91
| Chariton | 97.97
| Christian | 114.72
| Clark | 101.85
| Clay | 118.77
| Clinton | 106.01
| Cole | 103.87
| Cooper | 93.10
| Crawford | 73.59
| Dade | 79.97
| Dallas | 72.30
| Daviess | 93.01
| DeKalb | 93.24
| Dent | 59.57
| Douglas | 59.83
| Dunklin | 145.01
| Franklin | 110.08
| Gasconade | 79.40
| Gentry | 88.26
| Greene | 135.18
| Grundy | 83.41
| Harrison | 78.86
| Henry | 76.63
| Hickory | 60.05
| Holt | 139.39
| Howard | 86.12
| Howell | 61.08
| Iron | 58.83
| Jackson | 165.63
| Jasper | 91.76
| Jefferson | 119.65
| Johnson | 95.27
| Knox | 86.66
| Laclede | 71.71
| Lafayette | 129.20
| Lawrence | 91.11
| Lewis | 94.35
| Lincoln | 124.24
| Linn | 82.13
| Livingston | 96.06
| Macon | 90.99
| Madison | 59.80
| Maries | 56.15
| Marion | 112.99
| McDonald | 76.41
| Mercer | 76.72
| Miller | 71.14
| Mississippi | 166.29
| Moniteau | 101.70
| Monroe | 101.39
| Montgomery | 107.43
| Morgan | 109.31
| New Madrid | 159.28
| Newton | 103.67
| Nodaway | 114.30
| Oregon | 50.74
| Osage | 68.80
| Ozark | 60.77
| Pemiscot | 149.14
| Perry | 93.24
| Pettis | 99.71
| Phelps | 75.10
| Pike | 100.17
| Platte | 126.18
| Polk | 71.93
| Pulaski | 63.73
| Putnam | 71.79
| Ralls | 109.68
| Randolph | 98.60
| Ray | 100.17
| Reynolds | 45.55
| Ripley | 69.68
| Saline | 114.24
| Schuyler | 73.53
| Scotland | 96.01
| Scott | 144.92
| Shannon | 55.92
| Shelby | 106.23
| St. Louis | 123.87
| St. Charles | 139.17
| St. Clair | 69.88
| St. Francois | 83.56
| Ste. Genevieve | 84.07
| Stoddard | 152.50
| Stone | 82.45
| Sullivan | 66.61
| Taney | 63.67
| Texas | 58.86
| Vernon | 80.94
| Warren | 115.32
| Washington | 67.57
| Wayne | 66.95
| Webster | 88.37
| Worth | 81.02
| Wright | 61.48
Montana | Beaverhead | 28.91
| Big Horn | 8.63
| Blaine | 13.00
| Broadwater | 25.69
| Carbon | 32.58
| Carter | 11.81
| Cascade | 26.61
| Chouteau | 20.48
| Custer | 11.77
| Daniels | 13.92
| Dawson | 14.67
| Deer Lodge | 42.66
| Fallon | 13.26
| Fergus | 24.02
| Flathead | 140.27
| Gallatin | 66.52
| Garfield | 8.87
| Glacier | 25.62
| Golden Valley | 14.71
| Granite | 35.52
| Hill | 18.90
| Jefferson | 37.37
| Judith Basin | 20.40
| Lake | 35.26
| Lewis and Clark | 28.67
| Liberty | 19.69
| Lincoln | 115.26
| Madison | 37.54
| McCone | 11.59
| Meagher | 19.94
| Mineral | 109.82
| Missoula | 61.39
| Musselshell | 14.03
| Park | 57.28
| Petroleum | 14.89
| Phillips | 11.64
| Pondera | 26.50
| Powder River | 12.10
| Powell | 28.43
| Prairie | 16.99
| Ravalli | 125.89
| Richland | 19.25
| Roosevelt | 15.85
| Rosebud | 9.44
| Sanders | 21.69
| Sheridan | 15.24
| Silver Bow | 49.42
| Stillwater | 29.51
| Sweet Grass | 24.94
| Teton | 26.04
| Toole | 19.25
| Treasure | 12.69
| Valley | 14.14
| Wheatland | 15.21
| Wibaux | 13.55
| Yellowstone | 22.02
Nebraska | Adams | 140.46
| Antelope | 121.07
| Arthur | 21.14
| Banner | 23.01
| Blaine | 26.20
| Boone | 117.40
| Box Butte | 35.20
| Boyd | 53.51
| Brown | 30.93
| Buffalo | 115.92
| Burt | 162.55
| Butler | 150.23
| Cass | 147.96
| Cedar | 136.74
| Chase | 55.02
| Cherry | 24.62
| Cheyenne | 26.92
| Clay | 127.98
| Colfax | 163.45
| Cuming | 160.62
| Custer | 65.31
| Dakota | 149.25
| Dawes | 23.46
| Dawson | 90.04
| Deuel | 34.44
| Dixon | 123.39
| Dodge | 169.20
| Douglas | 201.71
| Dundy | 40.37
| Fillmore | 143.76
| Franklin | 91.36
| Frontier | 49.58
| Furnas | 65.10
| Gage | 116.82
| Garden | 22.85
| Garfield | 39.13
| Gosper | 74.20
| Grant | 22.09
| Greeley | 78.24
| Hall | 134.13
| Hamilton | 167.33
| Harlan | 75.94
| Hayes | 37.34
| Hitchcock | 41.53
| Holt | 62.80
| Hooker | 19.40
| Howard | 92.12
| Jefferson | 109.54
| Johnson | 95.81
| Kearney | 138.06
| Keith | 42.91
| Keya Paha | 37.37
| Kimball | 28.37
| Knox | 88.27
| Lancaster | 147.72
| Lincoln | 44.17
| Logan | 31.67
| Loup | 30.69
| Madison | 153.55
| McPherson | 21.61
| Merrick | 133.89
| Morrill | 30.21
| Nance | 111.54
| Nemaha | 120.01
| Nuckolls | 94.68
| Otoe | 130.81
| Pawnee | 85.60
| Perkins | 56.47
| Phelps | 134.95
| Pierce | 128.56
| Platte | 166.98
| Polk | 155.98
| Red Willow | 51.38
| Richardson | 112.60
| Rock | 30.03
| Saline | 124.45
| Sarpy | 196.30
| Saunders | 148.85
| Scotts Bluff | 53.78
| Seward | 150.68
| Sheridan | 25.60
| Sherman | 70.61
| Sioux | 23.78
| Stanton | 131.70
| Thayer | 103.44
| Thomas | 20.58
| Thurston | 127.37
| Valley | 75.94
| Washington | 172.02
| Wayne | 145.45
| Webster | 72.28
| Wheeler | 40.32
| York | 181.50
Nevada | Carson City | 6.71
| Churchill | 14.14
| Clark | 22.95
| Douglas | 15.17
| Elko | 4.05
| Esmeralda | 15.38
| Eureka | 3.69
| Humboldt | 6.55
| Lander | 7.74
| Lincoln | 19.02
| Lyon | 16.88
| Mineral | 2.16
| Nye | 12.79
| Pershing | 5.91
| Storey | 6.71
| Washoe | 7.58
| White Pine | 9.79
New Hampshire | Belknap Carroll | 136.06 108.79
| Cheshire | 104.97
| Coos | 70.99
| Grafton | 108.18
| Hillsborough | 215.28
| Merrimack | 160.54
| Rockingham | 312.36
| Strafford | 179.78
| Sullivan | 132.69
New Jersey | Atlantic | 333.33
| Bergen | 2,597.81
| Burlington | 262.51
| Camden | 428.79
| Cape May | 380.26
| Cumberland | 255.96
| Essex | 2,204.93
| Gloucester | 331.04
| Hudson | 1,313.80
| Hunterdon | 407.84
| Mercer | 473.05
| Middlesex | 568.61
| Monmouth | 547.95
| Morris | 559.54
| Ocean | 497.00
| Passaic | 834.46
| Salem | 219.89
| Somerset | 516.45
| Sussex | 301.24
| Union | 4,085.52
| Warren | 318.19
New Mexico | Bernalillo | 57.82
| Catron | 8.80
| Chaves | 9.91
| Cibola | 6.64
| Colfax | 10.58
| Curry | 14.57
| De Baca | 7.86
| Dona Ana | 52.06
| Eddy | 12.39
| Grant | 10.21
| Guadalupe | 6.52
| Harding | 7.67
| Hidalgo | 10.92
| Lea | 8.63
| Lincoln | 10.44
| Los Alamos | 10.92
| Luna | 10.79
| McKinley | 8.97
| Mora | 11.57
| Otero | 9.20
| Quay | 7.38
| Rio Arriba | 17.98
| Roosevelt | 9.58
| San Juan | 11.19
| San Miguel | 8.43
| Sandoval | 9.41
| Santa Fe | 18.46
| Sierra | 7.57
| Socorro | 13.16
| Taos | 34.27
| Torrance | 10.00
| Union | 8.66
| Valencia | 24.35
New York | Albany | 125.82
| Allegany | 56.97
| Bronx | 91.38
| Broome | 87.42
| Cattaraugus | 64.84
| Cayuga | 111.93
| Chautauqua | 74.85
| Chemung | 74.12
| Chenango | 58.19
| Clinton | 74.85
| Columbia | 118.52
| Cortland | 65.66
| Delaware | 81.51
| Dutchess | 255.84
| Erie | 129.50
| Essex | 67.41
| Franklin | 70.38
| Fulton | 78.99
| Genesee | 94.66
| Greene | 89.32
| Hamilton | 94.55
| Herkimer | 64.78
| Jefferson | 75.76
| Kings | 12,554.16
| Lewis | 56.86
| Livingston | 105.05
| Madison | 74.18
| Monroe | 121.86
| Montgomery | 70.33
| Nassau | 491.35
| New York | 91.38
| Niagara | 86.88
| Oneida | 75.25
| Onondaga | 116.65
| Ontario | 113.97
| Orange | 196.29
| Orleans | 89.80
| Oswego | 62.63
| Otsego | 75.45
| Putnam | 169.83
| Queens | 1,373.05
| Rensselaer | 99.42
| Richmond | 91.38
| Rockland | 814.26
| Saratoga | 166.69
| Schenectady | 121.35
| Schoharie | 68.91
| Schuyler | 92.54
| Seneca | 106.30
| St. Lawrence | 51.85
| Steuben | 59.40
| Suffolk | 345.80
| Sullivan | 119.23
| Tioga | 64.67
| Tompkins | 107.23
| Ulster | 195.24
| Warren | 118.13
| Washington | 79.07
| Wayne | 97.27
| Westchester | 301.29
| Wyoming | 98.00
| Yates | 147.93
North Carolina | Alamance Alexander | 170.50 160.04
| Alleghany | 140.29
| Anson | 116.11
| Ashe | 149.41
| Avery | 184.54
| Beaufort | 97.18
| Bertie | 86.16
| Bladen | 94.74
| Brunswick | 111.39
| Buncombe | 282.71
| Burke | 162.00
| Cabarrus | 247.48
| Caldwell | 128.95
| Camden | 90.42
| Carteret | 128.90
| Caswell | 92.10
| Catawba | 185.93
| Chatham | 156.43
| Cherokee | 139.41
| Chowan | 99.29
| Clay | 178.37
| Cleveland | 132.53
| Columbus | 92.75
| Craven | 111.88
| Cumberland | 146.80
| Currituck | 139.41
| Dare | 119.55
| Davidson | 164.73
| Davie | 144.61
| Duplin | 136.34
| Durham | 302.80
| Edgecombe | 86.64
| Forsyth | 264.47
| Franklin | 101.05
| Gaston | 174.50
| Gates | 103.01
| Graham | 136.06
| Granville | 99.00
| Greene | 112.10
| Guilford | 232.39
| Halifax | 72.92
| Harnett | 158.42
| Haywood | 183.60
| Henderson | 220.40
| Hertford | 90.90
| Hoke | 125.09
| Hyde | 84.51
| Iredell | 154.53
| Jackson | 232.87
| Johnston | 134.72
| Jones | 115.20
| Lee | 163.79
| Lenoir | 113.10
| Lincoln | 162.85
| Macon | 226.36
| Madison | 140.92
| Martin | 76.10
| McDowell | 149.41
| Mecklenburg | 974.34
| Mitchell | 165.24
| Montgomery | 134.78
| Moore | 144.95
| Nash | 131.48
| New Hanover | 967.27
| Northampton | 79.48
| Onslow | 178.57
| Orange | 189.99
| Pamlico | 103.78
| Pasquotank | 113.21
| Pender | 152.00
| Perquimans | 101.16
| Person | 107.36
| Pitt | 109.26
| Polk | 183.06
| Randolph | 143.56
| Richmond | 124.04
| Robeson | 94.20
| Rockingham | 110.06
| Rowan | 166.24
| Rutherford | 135.89
| Sampson | 138.98
| Scotland | 102.30
| Stanly | 130.69
| Stokes | 116.05
| Surry | 127.05
| Swain | 103.95
| Transylvania | 219.80
| Tyrrell | 117.87
| Union | 151.63
| Vance | 84.62
| Wake | 331.28
| Warren | 82.66
| Washington | 104.23
| Watauga | 182.97
| Wayne | 141.80
| Wilkes | 145.61
| Wilson | 107.53
| Yadkin | 155.47
| Yancey | 154.76
North Dakota | Adams | 31.01
| Barnes | 67.16
| Benson | 39.76
| Billings | 26.71
| Bottineau | 44.93
| Bowman | 29.88
| Burke | 30.63
| Burleigh | 55.22
| Cass | 108.05
| Cavalier | 60.45
| Dickey | 69.02
| Divide | 31.07
| Dunn | 33.33
| Eddy | 42.29
| Emmons | 46.06
| Foster | 58.36
| Golden Valley | 30.57
| Grand Forks | 99.13
| Grant | 31.13
| Griggs | 51.64
| Hettinger | 40.83
| Kidder | 36.56
| LaMoure | 73.79
| Logan | 34.61
| McHenry | 31.65
| McIntosh | 39.64
| McKenzie | 29.82
| McLean | 51.88
| Mercer | 39.76
| Morton | 40.80
| Mountrail | 37.14
| Nelson | 39.52
| Oliver | 41.94
| Pembina | 80.12
| Pierce | 40.95
| Ramsey | 52.57
| Ransom | 58.47
| Renville | 46.64
| Richland | 92.68
| Rolette | 37.20
| Sargent | 81.00
| Sheridan | 31.91
| Sioux | 36.12
| Slope | 30.72
| Stark | 38.68
| Steele | 63.85
| Stutsman | 58.27
| Towner | 40.25
| Traill | 89.63
| Walsh | 73.03
| Ward | 47.46
| Wells | 49.73
| Williams | 31.85
Ohio | Adams | 112.49
| Allen | 210.26
| Ashland | 176.04
| Ashtabula | 126.72
| Athens | 93.10
| Auglaize | 235.91
| Belmont | 110.96
| Brown | 127.73
| Butler | 239.21
| Carroll | 136.48
| Champaign | 207.77
| Clark | 218.55
| Clermont | 162.42
| Clinton | 172.65
| Columbiana | 167.17
| Coshocton | 152.97
| Crawford | 186.79
| Cuyahoga | 472.74
| Darke | 241.06
| Defiance | 166.22
| Delaware | 226.72
| Erie | 189.63
| Fairfield | 223.19
| Fayette | 206.96
| Franklin | 233.01
| Fulton | 202.41
| Gallia | 91.08
| Geauga | 209.94
| Greene | 206.90
| Guernsey | 107.85
| Hamilton | 385.20
| Hancock | 175.08
| Hardin | 170.62
| Harrison | 95.92
| Henry | 189.80
| Highland | 145.50
| Hocking | 131.18
| Holmes | 224.32
| Huron | 176.27
| Jackson | 81.54
| Jefferson | 158.33
| Knox | 175.23
| Lake | 236.51
| Lawrence | 95.25
| Licking | 191.72
| Logan | 175.34
| Lorain | 216.87
| Lucas | 239.85
| Madison | 200.93
| Mahoning | 192.01
| Marion | 169.17
| Medina | 226.98
| Meigs | 100.47
| Mercer | 280.30
| Miami | 215.04
| Monroe | 94.70
| Montgomery | 209.04
| Morgan | 100.20
| Morrow | 173.92
| Muskingum | 118.84
| Noble | 89.19
| Ottawa | 156.74
| Paulding | 181.40
| Perry | 132.54
| Pickaway | 174.82
| Pike | 120.43
| Portage | 188.67
| Preble | 185.37
| Putnam | 193.98
| Richland | 217.48
| Ross | 132.80
| Sandusky | 171.72
| Scioto | 90.93
| Seneca | 170.65
| Shelby | 222.78
| Stark | 267.87
| Summit | 387.29
| Trumbull | 125.50
| Tuscarawas | 160.97
| Union | 184.01
| Van Wert | 217.16
| Vinton | 91.74
| Warren | 226.72
| Washington | 92.41
| Wayne | 259.06
| Williams | 149.55
| Wood | 192.96
| Wyandot | 165.35
Oklahoma | Adair | 68.30
| Alfalfa | 48.63
| Atoka | 52.37
| Beaver | 25.64
| Beckham | 38.03
| Blaine | 46.49
| Bryan | 64.73
| Caddo | 49.46
| Canadian | 67.07
| Carter | 57.97
| Cherokee | 70.90
| Choctaw | 50.66
| Cimarron | 23.56
| Cleveland | 138.52
| Coal | 52.00
| Comanche | 55.05
| Cotton | 38.81
| Craig | 60.11
| Creek | 62.62
| Custer | 41.46
| Delaware | 77.92
| Dewey | 39.15
| Ellis | 28.38
| Garfield | 49.57
| Garvin | 54.74
| Grady | 59.91
| Grant | 45.83
| Greer | 33.01
| Harmon | 35.75
| Harper | 31.44
| Haskell | 54.31
| Hughes | 45.54
| Jackson | 39.92
| Jefferson | 44.14
| Johnston | 53.45
| Kay | 46.97
| Kingfisher | 54.91
| Kiowa | 35.81
| Latimer | 51.28
| Le Flore | 61.73
| Lincoln | 63.99
| Logan | 63.96
| Love | 70.10
| Major | 42.37
| Marshall | 69.16
| Mayes | 79.38
| McClain | 75.27
| McCurtain | 61.13
| McIntosh | 54.28
| Murray | 61.05
| Muskogee | 64.42
| Noble | 50.80
| Nowata | 58.91
| Okfuskee | 48.91
| Oklahoma | 185.03
| Okmulgee | 63.16
| Osage | 45.46
| Ottawa | 79.27
| Pawnee | 50.91
| Payne | 69.13
| Pittsburg | 50.03
| Pontotoc | 61.91
| Pottawatomie | 64.36
| Pushmataha | 44.03
| Roger Mills | 36.61
| Rogers | 83.09
| Seminole | 52.05
| Sequoyah | 62.56
| Stephens | 50.23
| Texas | 28.93
| Tillman | 37.89
| Tulsa | 166.44
| Wagoner | 80.89
| Washington | 67.22
| Washita | 42.43
| Woods | 37.86
| Woodward | 34.72
Oregon | Baker | 25.26
| Benton | 130.12
| Clackamas | 434.84
| Clatsop | 144.58
| Columbia | 174.91
| Coos | 61.61
| Crook | 19.30
| Curry | 71.57
| Deschutes | 175.18
| Douglas | 69.00
| Gilliam | 14.55
| Grant | 20.92
| Harney | 13.78
| Hood River | 281.47
| Jackson | 171.68
| Jefferson | 17.28
| Josephine | 363.65
| Klamath | 44.24
| Lake | 21.85
| Lane | 172.93
| Lincoln | 111.12
| Linn | 143.34
| Malheur | 30.08
| Marion | 249.96
| Morrow | 22.78
| Multnomah | 422.00
| Polk | 143.83
| Sherman | 17.18
| Tillamook | 157.57
| Umatilla | 36.87
| Union | 36.62
| Wallowa | 32.99
| Wasco | 18.41
| Washington | 345.60
| Wheeler | 18.29
| Yamhill | 205.72
Pennsylvania | Adams | 197.77
| Allegheny | 251.76
| Armstrong | 104.66
| Beaver | 173.76
| Bedford | 117.06
| Berks | 321.93
| Blair | 193.78
| Bradford | 104.05
| Bucks | 270.20
| Butler | 151.96
| Cambria | 133.00
| Cameron | 81.68
| Carbon | 190.10
| Centre | 192.43
| Chester | 348.67
| Clarion | 92.19
| Clearfield | 103.62
| Clinton | 187.77
| Columbia | 173.16
| Crawford | 95.96
| Cumberland | 218.65
| Dauphin | 252.48
| Delaware | 413.43
| Elk | 120.57
| Erie | 129.56
| Fayette | 118.93
| Forest | 140.73
| Franklin | 216.21
| Fulton | 119.91
| Greene | 104.66
| Huntingdon | 138.26
| Indiana | 103.39
| Jefferson | 95.18
| Juniata | 187.31
| Lackawanna | 152.25
| Lancaster | 525.15
| Lawrence | 126.03
| Lebanon | 413.57
| Lehigh | 225.43
| Luzerne | 174.13
| Lycoming | 147.02
| McKean | 81.80
| Mercer | 114.80
| Mifflin | 177.46
| Monroe | 169.22
| Montgomery | 556.03
| Montour | 185.02
| Northampton | 215.52
| Northumberland | 168.65
| Perry | 190.39
| Philadelphia | 1,686.21
| Pike | 63.93
| Potter | 98.48
| Schuylkill | 190.85
| Snyder | 210.58
| Somerset | 92.57
| Sullivan | 117.50
| Susquehanna | 136.14
| Tioga | 109.05
| Union | 275.69
| Venango | 109.05
| Warren | 99.40
| Washington | 187.00
| Wayne | 123.33
| Westmoreland | 169.71
| Wyoming | 119.02
| York | 235.54
Puerto Rico | All Areas | 155.56
Rhode Island | Bristol | 1,095.00
| Kent | 343.79
| Newport | 592.78
| Providence | 346.24
| Washington | 330.50
South Carolina | Abbeville Aiken | 87.32 106.24
| Allendale | 62.22
| Anderson | 160.05
| Bamberg | 82.69
| Barnwell | 78.55
| Beaufort | 102.15
| Berkeley | 75.39
| Calhoun | 86.05
| Charleston | 264.24
| Cherokee | 94.88
| Chester | 93.72
| Chesterfield | 83.26
| Clarendon | 64.13
| Colleton | 85.46
| Darlington | 73.22
| Dillon | 64.61
| Dorchester | 79.28
| Edgefield | 99.47
| Fairfield | 80.86
| Florence | 89.29
| Georgetown | 57.62
| Greenville | 259.13
| Greenwood | 96.34
| Hampton | 68.79
| Horry | 127.20
| Jasper | 103.25
| Kershaw | 87.12
| Lancaster | 111.46
| Laurens | 108.13
| Lee | 68.14
| Lexington | 156.05
| Marion | 65.74
| Marlboro | 54.35
| McCormick | 56.52
| Newberry | 93.47
| Oconee | 180.08
| Orangeburg | 85.12
| Pickens | 198.83
| Richland | 135.29
| Saluda | 87.23
| Spartanburg | 232.14
| Sumter | 84.47
| Union | 71.47
| Williamsburg | 63.32
| York | 196.83
South Dakota | Aurora | 76.81
| Beadle | 77.94
| Bennett | 27.55
| Bon Homme | 115.30
| Brookings | 133.18
| Brown | 97.30
| Brule | 74.61
| Buffalo | 44.71
| Butte | 27.75
| Campbell | 52.99
| Charles Mix | 80.68
| Clark | 91.16
| Clay | 136.08
| Codington | 100.33
| Corson | 26.60
| Custer | 46.19
| Davison | 98.34
| Day | 76.55
| Deuel | 99.78
| Dewey | 28.07
| Douglas | 107.69
| Edmunds | 71.19
| Fall River | 20.72
| Faulk | 73.71
| Grant | 107.92
| Gregory | 54.38
| Haakon | 26.71
| Hamlin | 113.62
| Hand | 59.50
| Hanson | 125.08
| Harding | 19.25
| Hughes | 54.73
| Hutchinson | 130.09
| Hyde | 44.19
| Jackson | 25.32
| Jerauld | 69.20
| Jones | 33.08
| Kingsbury | 110.26
| Lake | 148.20
| Lawrence | 51.77
| Lincoln | 199.86
| Lyman | 47.78
| Marshall | 81.44
| McCook | 126.38
| McPherson | 62.34
| Meade | 27.52
| Mellette | 27.93
| Miner | 102.24
| Minnehaha | 186.63
| Moody | 168.43
| Oglala Lakota | 19.50
| Pennington | 30.62
| Perkins | 24.05
| Potter | 61.18
| Roberts | 87.02
| Sanborn | 82.68
| Spink | 90.64
| Stanley | 26.65
| Sully | 62.34
| Todd | 24.60
| Tripp | 46.88
| Turner | 145.25
| Union | 170.02
| Walworth | 57.30
| Yankton | 127.97
| Ziebach | 24.74
Tennessee | Anderson | 158.35
| Bedford | 120.74
| Benton | 72.12
| Bledsoe | 99.82
| Blount | 186.48
| Bradley | 175.73
| Campbell | 119.90
| Cannon | 103.93
| Carroll | 79.25
| Carter | 150.64
| Cheatham | 132.04
| Chester | 73.60
| Claiborne | 90.63
| Clay | 96.57
| Cocke | 128.27
| Coffee | 118.94
| Crockett | 97.50
| Cumberland | 117.14
| Davidson | 260.13
| Decatur | 64.00
| DeKalb | 98.05
| Dickson | 121.72
| Dyer | 97.47
| Fayette | 97.73
| Fentress | 100.60
| Franklin | 118.82
| Gibson | 102.60
| Giles | 94.89
| Grainger | 110.04
| Greene | 130.18
| Grundy | 100.22
| Hamblen | 159.56
| Hamilton | 285.40
| Hancock | 77.13
| Hardeman | 66.32
| Hardin | 64.67
| Hawkins | 107.99
| Haywood | 96.17
| Henderson | 73.07
| Henry | 96.31
| Hickman | 91.39
| Houston | 93.67
| Humphreys | 80.64
| Jackson | 89.97
| Jefferson | 149.19
| Johnson | 115.12
| Knox | 285.25
| Lake | 101.73
| Lauderdale | 98.08
| Lawrence | 95.50
| Lewis | 82.84
| Lincoln | 106.13
| Loudon | 164.86
| Macon | 109.03
| Madison | 94.54
| Marion | 94.28
| Marshall | 101.35
| Maury | 116.97
| McMinn | 135.19
| McNairy | 63.83
| Meigs | 96.40
| Monroe | 123.20
| Montgomery | 142.47
| Moore | 104.92
| Morgan | 88.60
| Obion | 104.28
| Overton | 97.76
| Perry | 64.21
| Pickett | 101.44
| Polk | 119.17
| Putnam | 134.70
| Rhea | 124.91
| Roane | 152.58
| Robertson | 153.13
| Rutherford | 213.28
| Scott | 77.39
| Sequatchie | 111.96
| Sevier | 177.15
| Shelby | 151.74
| Smith | 99.99
| Stewart | 76.78
| Sullivan | 204.70
| Sumner | 153.91
| Tipton | 95.33
| Trousdale | 99.44
| Unicoi | 207.02
| Union | 118.56
| Van Buren | 97.06
| Warren | 100.14
| Washington | 228.06
| Wayne | 68.58
| Weakley | 104.77
| White | 110.57
| Williamson | 175.61
| Wilson | 142.29
Texas | Anderson | 78.44
| Andrews | 21.77
| Angelina | 100.78
| Aransas | 46.58
| Archer | 41.10
| Armstrong | 25.69
| Atascosa | 63.14
| Austin | 108.03
| Bailey | 23.56
| Bandera | 70.00
| Bastrop | 113.78
| Baylor | 28.54
| Bee | 56.62
| Bell | 90.77
| Bexar | 164.26
| Blanco | 82.48
| Borden | 24.42
| Bosque | 68.67
| Bowie | 83.06
| Brazoria | 129.47
| Brazos | 157.34
| Brewster | 18.83
| Briscoe | 24.70
| Brooks | 42.92
| Brown | 66.68
| Burleson | 94.78
| Burnet | 81.98
| Caldwell | 105.68
| Calhoun | 59.30
| Callahan | 47.90
| Cameron | 98.46
| Camp | 91.10
| Carson | 37.59
| Cass | 64.86
| Castro | 38.17
| Chambers | 65.47
| Cherokee | 85.93
| Childress | 25.58
| Clay | 53.21
| Cochran | 25.61
| Coke | 26.61
| Coleman | 45.44
| Collin | 275.08
| Collingsworth | 28.04
| Colorado | 83.22
| Comal | 94.45
| Comanche | 72.99
| Concho | 40.80
| Cooke | 91.46
| Coryell | 72.08
| Cottle | 30.70
| Crane | 23.45
| Crockett | 22.46
| Crosby | 26.83
| Culberson | 20.36
| Dallam | 31.36
| Dallas | 223.94
| Dawson | 28.76
| Deaf Smith | 31.20
| Delta | 54.43
| Denton | 264.13
| DeWitt | 84.96
| Dickens | 29.46
| Dimmit | 39.00
| Donley | 23.92
| Duval | 46.94
| Eastland | 54.32
| Ector | 32.03
| Edwards | 32.36
| El Paso | 111.05
| Ellis | 88.81
| Erath | 87.56
| Falls | 69.50
| Fannin | 79.46
| Fayette | 111.52
| Fisher | 31.28
| Floyd | 27.82
| Foard | 30.87
| Fort Bend | 85.82
| Franklin | 85.74
| Freestone | 70.94
| Frio | 51.11
| Gaines | 31.94
| Galveston | 146.56
| Garza | 27.80
| Gillespie | 84.05
| Glasscock | 25.42
| Goliad | 73.51
| Gonzales | 87.95
| Gray | 31.64
| Grayson | 187.24
| Gregg | 156.24
| Grimes | 106.40
| Guadalupe | 107.67
| Hale | 35.98
| Hall | 25.42
| Hamilton | 69.42
| Hansford | 37.12
| Hardeman | 28.87
| Hardin | 86.49
| Harris | 238.82
| Harrison | 72.68
| Hartley | 34.32
| Haskell | 29.10
| Hays | 270.30
| Hemphill | 30.81
| Henderson | 88.17
| Hidalgo | 119.45
| Hill | 69.95
| Hockley | 27.88
| Hood | 94.81
| Hopkins | 80.71
| Houston | 77.19
| Howard | 25.58
| Hudspeth | 24.97
| Hunt | 85.57
| Hutchinson | 26.77
| Irion | 27.52
| Jack | 64.53
| Jackson | 80.48
| Jasper | 88.70
| Jeff Davis | 19.00
| Jefferson | 65.13
| Jim Hogg | 48.04
| Jim Wells | 57.22
| Johnson | 109.28
| Jones | 31.56
| Karnes | 67.65
| Kaufman | 83.25
| Kendall | 85.63
| Kenedy | 20.38
| Kent | 23.70
| Kerr | 69.06
| Kimble | 55.09
| King | 19.17
| Kinney | 34.32
| Kleberg | 36.51
| Knox | 30.81
| La Salle | 43.81
| Lamar | 69.34
| Lamb | 34.46
| Lampasas | 78.22
| Lavaca | 97.11
| Lee | 101.67
| Leon | 84.00
| Liberty | 83.19
| Limestone | 50.95
| Lipscomb | 31.09
| Live Oak | 59.71
| Llano | 72.46
| Loving | 5.28
| Lubbock | 47.07
| Lynn | 27.85
| Madison | 82.86
| Marion | 55.40
| Martin | 24.62
| Mason | 64.11
| Matagorda | 66.30
| Maverick | 38.86
| McCulloch | 54.51
| McLennan | 99.79
| McMullen | 50.23
| Medina | 73.96
| Menard | 40.99
| Midland | 44.50
| Milam | 87.48
| Mills | 69.39
| Mitchell | 27.57
| Montague | 75.56
| Montgomery | 315.68
| Moore | 31.36
| Morris | 63.14
| Motley | 23.43
| Nacogdoches | 80.07
| Navarro | 64.97
| Newton | 61.43
| Nolan | 30.48
| Nueces | 84.41
| Ochiltree | 34.07
| Oldham | 22.54
| Orange | 127.75
| Palo Pinto | 67.48
| Panola | 73.85
| Parker | 118.82
| Parmer | 31.11
| Pecos | 19.14
| Polk | 83.28
| Potter | 28.10
| Presidio | 21.66
| Rains | 96.22
| Randall | 43.75
| Reagan | 23.18
| Real | 53.13
| Red River | 53.30
| Reeves | 14.55
| Refugio | 34.57
| Roberts | 21.05
| Robertson | 79.90
| Rockwall | 153.11
| Runnels | 38.25
| Rusk | 70.83
| Sabine | 62.40
| San Augustine | 77.99
| San Jacinto | 113.40
| San Patricio | 73.29
| San Saba | 67.73
| Schleicher | 32.66
| Scurry | 28.93
| Shackelford | 35.68
| Shelby | 97.00
| Sherman | 39.58
| Smith | 145.15
| Somervell | 86.65
| Starr | 50.72
| Stephens | 48.37
| Sterling | 18.75
| Stonewall | 25.28
| Sutton | 35.13
| Swisher | 28.93
| Tarrant | 168.82
| Taylor | 56.78
| Terrell | 20.77
| Terry | 28.18
| Throckmorton | 38.94
| Titus | 69.70
| Tom Green | 43.48
| Travis | 173.03
| Trinity | 73.13
| Tyler | 94.37
| Upshur | 95.23
| Upton | 22.35
| Uvalde | 35.93
| Val Verde | 27.88
| Van Zandt | 101.59
| Victoria | 80.76
| Walker | 101.75
| Waller | 129.16
| Ward | 29.43
| Washington | 132.23
| Webb | 47.38
| Wharton | 80.26
| Wheeler | 30.12
| Wichita | 40.77
| Wilbarger | 35.37
| Willacy | 48.59
| Williamson | 102.94
| Wilson | 87.79
| Winkler | 31.00
| Wise | 107.75
| Wood | 92.99
| Yoakum | 25.97
| Young | 46.77
| Zapata | 39.05
| Zavala | 48.15
Utah | Beaver | 26.98
| Box Elder | 18.58
| Cache | 58.58
| Carbon | 15.00
| Daggett | 33.66
| Davis | 113.02
| Duchesne | 11.83
| Emery | 25.46
| Garfield | 37.90
| Grand | 9.99
| Iron | 23.70
| Juab | 16.08
| Kane | 21.99
| Millard | 24.76
| Morgan | 26.66
| Piute | 25.22
| Rich | 10.58
| Salt Lake | 117.35
| San Juan | 4.45
| Sanpete | 34.18
| Sevier | 51.90
| Summit | 39.57
| Tooele | 16.67
| Uintah | 7.64
| Utah | 105.86
| Wasatch | 67.35
| Washington | 45.29
| Wayne | 55.01
| Weber | 112.95
Vermont | Addison | 95.36
| Bennington | 136.28
| Caledonia | 91.25
| Chittenden | 182.64
| Essex | 55.93
| Franklin | 89.19
| Grand Isle | 123.07
| Lamoille | 99.68
| Orange | 105.26
| Orleans | 77.44
| Rutland | 78.95
| Washington | 122.47
| Windham | 143.29
| Windsor | 110.52
Virginia | Accomack | 123.07
| Albemarle | 285.25
| Alleghany | 121.55
| Amelia | 89.22
| Amherst | 134.20
| Appomattox | 89.22
| Arlington | 8,593.27
| Augusta | 201.83
| Bath | 106.03
| Bedford | 126.85
| Bland | 99.37
| Botetourt | 121.06
| Brunswick | 72.49
| Buchanan | 69.73
| Buckingham | 107.59
| Campbell | 88.99
| Caroline | 106.58
| Carroll | 92.82
| Charles City | 97.27
| Charlotte | 75.58
| Chesapeake City | 168.64
| Chesterfield | 265.76
| Clarke | 203.18
| Craig | 86.22
| Culpeper | 165.72
| Cumberland | 109.75
| Dickenson | 81.32
| Dinwiddie | 88.47
| Essex | 92.10
| Fairfax | 484.63
| Fauquier | 212.21
| Floyd | 109.64
| Fluvanna | 124.43
| Franklin | 103.87
| Frederick | 208.29
| Giles | 88.61
| Gloucester | 136.02
| Goochland | 156.58
| Grayson | 119.82
| Greene | 188.33
| Greensville | 78.20
| Halifax | 76.45
| Hanover | 145.19
| Henrico | 174.92
| Henry | 85.38
| Highland | 92.22
| Isle of Wight | 107.10
| James City | 291.62
| King and Queen | 97.38
| King George | 147.38
| King William | 116.67
| Lancaster | 122.18
| Lee | 76.30
| Loudoun | 283.06
| Louisa | 142.83
| Lunenburg | 76.82
| Madison | 171.55
| Mathews | 123.36
| Mecklenburg | 79.70
| Middlesex | 114.39
| Montgomery | 139.63
| Nelson | 146.29
| New Kent | 154.36
| Northampton | 132.22
| Northumberland | 86.68
| Nottoway | 91.53
| Orange | 181.58
| Page | 187.87
| Patrick | 80.02
| Pittsylvania | 81.75
| Powhatan | 152.80
| Prince Edward | 82.13
| Prince George | 109.78
| Prince William | 308.38
| Pulaski | 101.45
| Rappahannock | 198.71
| Richmond | 114.05
| Roanoke | 165.61
| Rockbridge | 141.82
| Rockingham | 255.03
| Russell | 83.34
| Scott | 76.04
| Shenandoah | 169.67
| Smyth | 84.49
| Southampton | 89.02
| Spotsylvania | 162.55
| Stafford | 377.87
| Suffolk | 119.01
| Surry | 97.44
| Sussex | 80.02
| Tazewell | 78.90
| Virginia Beach City | 278.21
| Warren | 217.66
| Washington | 145.28
| Westmoreland | 107.62
| Wise | 89.31
| Wythe | 113.07
| York | 348.78
Washington | Adams | 26.93
| Asotin | 24.95
| Benton | 73.52
| Chelan | 290.45
| Clallam | 240.83
| Clark | 168.73
| Columbia | 30.71
| Cowlitz | 168.90
| Douglas | 22.26
| Ferry | 9.77
| Franklin | 86.66
| Garfield | 29.67
| Grant | 64.52
| Grays Harbor | 45.17
| Island | 207.07
| Jefferson | 143.55
| King | 664.80
| Kitsap | 663.22
| Kittitas | 77.84
| Klickitat | 33.53
| Lewis | 113.18
| Lincoln | 23.05
| Mason | 161.48
| Okanogan | 22.76
| Pacific | 65.33
| Pend Oreille | 50.26
| Pierce | 405.32
| San Juan | 178.37
| Skagit | 191.06
| Skamania | 227.87
| Snohomish | 364.61
| Spokane | 70.31
| Stevens | 29.59
| Thurston | 224.06
| Wahkiakum | 90.63
| Walla Walla | 47.74
| Whatcom | 316.75
| Whitman | 32.93
| Yakima | 51.96
West Virginia | Barbour | 67.61
| Berkeley | 154.88
| Boone | 67.73
| Braxton | 59.47
| Brooke | 81.80
| Cabell | 103.20
| Calhoun | 52.79
| Clay | 49.86
| Doddridge | 61.65
| Fayette | 84.35
| Gilmer | 38.13
| Grant | 75.92
| Greenbrier | 75.46
| Hampshire | 86.98
| Hancock | 132.44
| Hardy | 93.03
| Harrison | 72.50
| Jackson | 64.02
| Jefferson | 170.06
| Kanawha | 112.38
| Lewis | 62.54
| Lincoln | 53.37
| Logan | 71.64
| Marion | 85.82
| Marshall | 74.91
| Mason | 70.36
| McDowell | 179.41
| Mercer | 72.82
| Mineral | 80.73
| Mingo | 32.31
| Monongalia | 131.17
| Monroe | 77.08
| Morgan | 151.55
| Nicholas | 75.72
| Ohio | 104.94
| Pendleton | 65.15
| Pleasants | 66.83
| Pocahontas | 54.29
| Preston | 79.54
| Putnam | 82.99
| Raleigh | 107.40
| Randolph | 70.22
| Ritchie | 52.26
| Roane | 55.88
| Summers | 65.79
| Taylor | 89.04
| Tucker | 82.90
| Tyler | 55.39
| Upshur | 76.59
| Wayne | 58.17
| Webster | 66.57
| Wetzel | 55.80
| Wirt | 52.35
| Wood | 96.51
| Wyoming | 96.91
Wisconsin | Adams | 128.31
| Ashland | 63.85
| Barron | 97.72
| Bayfield | 62.62
| Brown | 242.81
| Buffalo | 112.62
| Burnett | 77.83
| Calumet | 225.06
| Chippewa | 101.73
| Clark | 115.99
| Columbia | 166.58
| Crawford | 90.89
| Dane | 235.49
| Dodge | 167.04
| Door | 135.97
| Douglas | 56.05
| Dunn | 102.93
| Eau Claire | 130.54
| Florence | 72.23
| Fond du Lac | 207.94
| Forest | 69.34
| Grant | 134.82
| Green | 155.12
| Green Lake | 163.49
| Iowa | 139.03
| Iron | 97.21
| Jackson | 108.61
| Jefferson | 175.90
| Juneau | 105.87
| Kenosha | 216.51
| Kewaunee | 160.63
| La Crosse | 142.54
| Lafayette | 170.84
| Langlade | 93.52
| Lincoln | 92.64
| Manitowoc | 195.05
| Marathon | 135.80
| Marinette | 110.81
| Marquette | 119.36
| Menominee | 49.62
| Milwaukee | 255.18
| Monroe | 113.39
| Oconto | 119.07
| Oneida | 116.19
| Outagamie | 205.99
| Ozaukee | 187.33
| Pepin | 110.73
| Pierce | 132.05
| Polk | 101.10
| Portage | 117.19
| Price | 70.28
| Racine | 219.57
| Richland | 95.92
| Rock | 188.33
| Rusk | 71.03
| Sauk | 120.25
| Sawyer | 74.11
| Shawano | 133.25
| Sheboygan | 188.47
| St. Croix | 133.99
| Taylor | 83.89
| Trempealeau | 113.13
| Vernon | 111.01
| Vilas | 169.01
| Walworth | 198.16
| Washburn | 89.41
| Washington | 201.59
| Waukesha | 157.40
| Waupaca | 129.08
| Waushara | 120.93
| Winnebago | 199.25
| Wood | 94.64
Wyoming | Albany | 11.43
| Big Horn | 24.85
| Campbell | 8.85
| Carbon | 8.60
| Converse | 8.27
| Crook | 15.31
| Fremont | 19.92
| Goshen | 13.48
| Hot Springs | 9.71
| Johnson | 9.20
| Laramie | 13.26
| Lincoln | 28.59
| Natrona | 7.10
| Niobrara | 9.80
| Park | 23.36
| Platte | 13.73
| Sheridan | 19.14
| Sublette | 25.82
| Sweetwater | 4.63
| Teton | 63.32
| Uinta | 16.76
| Washakie | 18.28
| Weston | 10.46

[FR Doc. 2025-02417 Filed 2-11-25; 8:45 am]

BILLING CODE 6717-01-P